DEPARTMENT OF DEFENSE

Department of the Army

Availability for Non-Exclusive, Exclusive, or Partially Exclusive Licensing of U.S. Provisional Patent Application Concerning Intraoral Measurement of Saliva Osmolarity to Measure Hydration Status

AGENCY: Department of the Army, DoD.

ACTION: Notice.

SUMMARY: In accordance with 37 CFR 404.6 and 404.7, announcement is made of the availability for licensing of the invention set forth in U.S. Provisional Patent Application Serial No. 61/096,941 entitled “Intraoral Measurement of Saliva Osmolarity to Measure Hydration Status,” filed September 15, 2008. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The invention comprises a rapid, non-invasive method that uses saliva to determine and/or monitor a subject's hydration level for diagnostic, treatment, and prophylactic purposes. By determining/monitoring the hydration status of a subject, preventive measures may be applied to prevent heat injuries and deaths.

Brenda S. Bowen,
Army Federal Register Liaison Officer.

[FR Doc. E8-24497 Filed 10-14-08; 8:45 am]

BILLING CODE 3710-08-P